DEPARTMENT OF DEFENSE

Department of the Army; Corps of Engineers

Proposed Reductions in Levels of Service at Locks and Dams on the J Bennett Johnston Waterway (Red River)

AGENCY: Department of the Army, U.S. Army Corps of Engineers, DoD.

ACTION: Notice.

SUMMARY: It is proposed that the hours of availability at Lindy C. Boggs and John H. Overton Locks on the J Bennett Johnston Waterway (Red River) will remain at the current schedule of 24 hours per day, 7 days per week, 365 days per year. It is also proposed that the hours of availability at Lock 3, Russell B. Long, and Joe D. Waggonner locks will be reduced from the current schedule of 24 hours per day, 7 days per week, 365 days per year, to 20 hours per day, as operated by the contractor, 7 days per week, 365 days per year. The Inland Marine Transportation System Level of Service Guidelines led to the reduced hours of operation for Lock 3, Russell B. Long, and Joe D. Waggonner locks. The intended effect is to provide lock availability that matches existing lock usage. Pool levels will not be affected by change of operating hours.

DATES: Proposed implementation date is February 1, 2014.

ADDRESSES: Submit written comments to Mr. James V. Ross, Chief, Operations Division, Vicksburg District, U.S. Army Corps of Engineers, 4155 Clay Street, Vicksburg, MS 39183, or deliver them to Mr. Ross between the hours of 8:00 a.m. and 4:00 p.m., Monday through Friday at the address above. Comments received and other materials relevant to the proposed reduction in hours of lock availability will be posted on the Vicksburg District Web site, http://www.mvk.usace.army.mil/.

FOR FURTHER INFORMATION CONTACT: Mr. Michael Kidby at the Corps of Engineers Headquarters in Washington, DC, by phone at 202-761-0250.

SUPPLEMENTARY INFORMATION: The legal authority for the regulation governing the use, administration, and navigation of the Red River and Locks is Section 4 of the River and Harbor Act of August 18, 1894 (28 Stat. 362), as amended, which is codified at 33 U.S.C. 1. This statute requires the Secretary of the Army to “prescribe such regulations for the use, administration, and navigation of the navigable waters of the United States” as the Secretary determines may be required by public necessity. Reference 33 CFR 207.249, Ouachita and Black Rivers, Ark. and La., Mile 0.0 to Mile 338.0 (Camden, Ark.) above the mouth of the Black River; the Red River, La., Mile 6.7 (Junction of Red, Atchafalaya and Old Rivers) to Mile 276.0 (Shreveport, La.); use, administration, and navigation.

Brenda S. Bowen,
Army Federal Register Liaison Officer.

[FR Doc. 2013-13379 Filed 6-5-13; 8:45 a.m.]

BILLING CODE 3720-58-P